INTERNATIONAL TRADE COMMISSION

Requests for Petitions for Duty Suspensions and Reductions

AGENCY: United States International Trade Commission.

ACTION: Notice requesting members of the public to submit petitions for duty suspensions and reductions and Commission disclosure forms.

SUMMARY: As required by section 3(b)(1) of the American Manufacturing Competitiveness Act of 2016, the Commission is publishing notice requesting members of the public who can demonstrate that they are likely beneficiaries of duty suspensions or reductions to submit petitions for duty suspensions and reductions. Consistent with the statute, the Commission will accept petitions submitted during the 60-day period beginning on October 14, 2016, and ending at 5:15 p.m. EST December 12, 2016. All petitions must be submitted via the Commission's designated secure web portal. At a later date the Commission will publish notice of the opportunity for the public to submit comments on the petitions filed.

DATES: October 14, 2016: Opening date for filing petitions for duty suspensions and reductions. December 12, 2016, 5:15 p.m., EST: Closing date and time for filing petitions for duty suspensions and reductions.

ADDRESSES: All Commission offices are located in the United States International Trade Commission Building, 500 E Street SW., Washington, DC. The public file for this proceeding may be viewed on the Commission's MTB Petition System (MTBPS) at https://www.usitc.gov/mtbps.

FOR FURTHER INFORMATION CONTACT: For general inquiries, contact Jennifer Rohrbach at mtbinfo@usitc.gov. For filing inquiries, contact the Office of Secretary, Docket Services division, U.S. International Trade Commission, telephone (202) 205-3238.

The media should contact Peg O'Laughlin, Public Affairs Officer (202-205-1819 or margaret.olaughlin@usitc.gov). General information concerning the Commission may be obtained by accessing its internet server (https://www.usitc.gov).

Background: The American Manufacturing Competitiveness Act of 2016 (the Act) establishes a new process for the submission and consideration of requests for temporary duty suspensions and reductions. The Act requires the Commission to initiate the process by publishing a notice requesting members of the public who can demonstrate that they are likely beneficiaries of duty suspensions or reductions to submit petitions and Commission disclosure forms to the Commission. The Act establishes the information to be contained in a petition and sets out the review process the Commission is to follow. The Act, (Pub. L. 114-159, May 20, 2016), 19 U.S.C. 1332 note, requires the Commission to publish its notice requesting petitions no later than October 15, 2016, and to allow the public to file petitions during the 60-day period following publication of the notice. After the period for filing petitions closes, the Commission is required to publish the petitions on its Web site and provide notice to the public of the opportunity to submit comments on the petitions published.

The Act requires the Commission to submit preliminary and final reports to the House Committee on Ways and Means and the Senate Committee on Finance (Committees) on the petitions received. The reports are to include the Commission's analysis and recommendations regarding the petitions, including whether there is domestic production of the article, whether the estimated loss in revenues due to the duty suspension or reduction does not exceed $500,000, and whether the duty suspension or reduction will be available to any person importing the article. The Commission is required to classify the petitions into categories based on whether (1) the petition meets the requirements for inclusion in a miscellaneous tariff bill; (2) the Commission recommends inclusion in such a bill with specified technical changes, changes in product scope, or adjustment in the amount of duty reduction; (3) the Commission recommends against inclusion in a bill because the petition does not meet the petitioning requirements or the petitioner is not a likely beneficiary; (4) the Commission otherwise recommends not including the petition. The Committees and the Congress will make the final decision regarding the imported articles to be included in a bill.

The Act also requires the U.S. Department of Commerce, with input from U.S. Customs and Border Protection and other Federal agencies, to submit a report to the Commission and to the Committees. This report is to include information related to domestic production and technical changes that are necessary for purposes of administration when articles are presented for importation.

Procedures for Filing a Petition: The Commission has promulgated rules of practice and procedure regarding the process for filing petitions and has also made available a handbook and other materials to assist members of the public in filing petitions. The rules, in the form of an interim rule, are published at 19 CFR part 220 (81 FR 67144, Sept. 30, 2016). The rules, handbook, and other materials are also posted on the Commission's Web site at https://www.usitc.gov/mtbps. Highlights of the filing procedures are presented below only as an overview; persons who are considering filing a petition should consult the Commission's rules, handbook, and other materials.

Who may file. As provided for in the statute, the rules, and other Commission materials, petitions for duty suspensions or reductions may be filed only by members of the public who can demonstrate that they are a likely beneficiary of the duty suspension or reduction. The statute defines “likely beneficiary” to mean “an individual or entity likely to utilize, or benefit directly from the utilization of, an article that is the subject of a petition for a duty suspension or reduction.”

Method for filing. Petitions for duty suspensions and reductions may be filed only electronically via the Commission's designated secure web portal and in the format designated by the Commission in that portal. The portal contains a series of prompts and links that will assist persons in providing the required information (this information concerns both the petitions and related disclosure forms, so there will be only one submission). The Commission will not accept petitions submitted in paper or in any other form or format. Petitions, including any attachments thereto, must otherwise comply with the Commission's rules and Handbook on MTB Filing Procedures. Persons seeking duty suspensions or reductions on more than one imported product must submit separate petitions for each product. Persons filing petitions should be aware that they must be prepared to complete their entire petition when they enter the portal and that the portal will not allow them to edit, amend, or complete the petition at a later time. Accordingly, they should have all required information in hand when they enter the portal to begin the formal filing process. A list of all the information required to complete a petition may be found in the Commission's Before You File guide.

Time for filing. To be considered, petitions must be filed between October 14, 2016, and the close of business (5:15 p.m. EST) on December 12, 2016. The Commission will not accept petitions filed after that time and date.

Amendment and withdrawal of petitions. The Commission's secure web portal will not allow a person who has formally submitted a petition to amend the petition. Instead, that person must withdraw the original petition and file a new petition that incorporates the changes. The new petition must be filed within the 60-day period designated for filing petitions. Petitions may be withdrawn at any time prior to the time the Commission transmits its final report to the Committees.

Confidential business information. The portal will permit persons submitting petitions to claim that certain information should be treated either as confidential business information or as information protected from disclosure under the Privacy Act (e.g., a home address). However, because of the portal's design, the portal instructs that such information not be included in attachments to petitions. Persons who include confidential business information and information protected under the Privacy Act in attachments to their petitions will be presumed to have waived any privilege and the information will be disclosed to the public when the petitions and attachments are posted on the Commission's Web site. See further information below on possible disclosure of confidential business information.

Confidential Business Information. The Commission will not release information which the Commission considers to be confidential business information within the meaning of § 201.6(a) of its Rules of Practice and Procedure (19 CFR 201.6) unless the party submitting the confidential business information had notice, at the time of submission, that such information would be released by the Commission, or such party subsequently consents to the release of the information.

Confidential business information submitted to the Commission in petitions and comments may be disclosed to and/or used by (1) the Commission in calculating the estimated revenue loss required under the Act, which may be based in whole or in part on the estimated values of imports submitted by petitioners in their petitions; or (2) the Commission, its employees, and contract personnel (a) in processing petitions and comments and preparing reports under the American Manufacturing Competitiveness Act of 2016 or (b) in internal investigations, audits, reviews, and evaluations relating to the programs, personnel, and operations of the Commission including under 5 U.S.C. Appendix 3; or (3) the U.S. Department of Commerce for use in preparing its report to the Commission and the Committees, and the U.S. Department of Agriculture and CBP for use in providing information for that report; or (4) U.S. government employees and contract personnel, solely for cybersecurity purposes, subject to the requirement that all contract personnel will sign appropriate nondisclosure agreements.

By order of the Commission.
Issued: October 6, 2016.
Lisa R. Barton,
Secretary of the Commission.

[FR Doc. 2016-24690 Filed 10-13-16; 8:45 am]

BILLING CODE 7020-02-P